DEPARTMENT OF AGRICULTURE

Natural Resources Conservation Service

Notice of Publication of the National Animal Agriculture Conservation Framework (NAACF)

AGENCY: Natural Resources Conservation Service, USDA.

ACTION: Notice of publication.

SUMMARY: The Natural Resources Conservation Service is announcing the publication of the National Animal Agriculture Conservation Framework (NAACF). The NAACF presents a blueprint for assisting livestock and poultry producers with their voluntary, proactive efforts to foster environmentally sound and economically viable production.

Location of the Document: The document can be found on the NRCS Homepage at: http://www.nrcs.usda.gov/programs/afo, or can be obtained by hard copy from the contact address listed.

FOR FURTHER INFORMATION, CONTACT: Address all requests and comments to: Angel L. Figueroa, Natural Resources Specialist, Natural Resources Conservation Service, 5601 Sunnyside Avenue, Stop Code 5473, Beltsville, Maryland 20705; telephone: (301) 504-2225; fax: (301) 504-2264; e-mail: angel.figueroa@usda.gov.

SUPPLEMENTARY INFORMATION: Addressing the conservation needs of America's livestock and poultry producers is a public policy priority. The 2002 Farm Bill made clear that producers should receive assistance to improve their operations' environmental performance, address Federal, tribal, State, and local environmental regulatory requirements, and maintain economically viable operations.

In January 2003, the NRCS Chief called for NRCS State Conservationists to work with their State Technical Committees to develop State Frameworks, with the objective of meeting the conservation challenges facing animal agriculture over the next 10 to 15 years. These State frameworks provided the foundation for the development of the NAACF. The NAACF recognizes that meaningful action will take place on farms and ranches across the Nation, and that programmatic objectives and concrete goals appropriately be established at the local level in a manner consistent with the authorized and required purposes and objectives of the underlying programs. The NAACF also envisions that these locally established goals, consistent with the underlying national guidance, will become NRCS objectives through established agency planning processes that build State and national priorities from local input.

The NAACF presents a blueprint for voluntary, proactive efforts to foster environmentally sound and economically viable livestock and poultry production. It envisions collaboration among Federal, tribal, State, and local governments, producers, the public, and the private sector to bring the initiative, resources, and commitment to support environmental stewardship in animal agriculture. Four objectives guide this blueprint:

• Helping producers to meet environmental regulatory requirements;

• Helping producers reduce the need for further regulation through flexible, results-based multi-natural resource solutions;

• Promoting innovation and market-based opportunities; and

• Sharing knowledge and increasing accountability.

NRCS is committed to working effectively with its current partners in the agricultural and environmental communities, and bringing new partners to the table, to develop and implement approaches to help the Nation's livestock and poultry producers achieve environmental and economic objectives. The NAACF is intended to be a representation of NRCS” commitment to this critical conservation opportunity.

Signed in Washington, DC, on February 11, 2004.
Bruce I. Knight,
Chief, Natural Resources Conservation Service.

[FR Doc. 04-4323 Filed 2-26-04; 8:45 am]

BILLING CODE 3410-16-P